DEPARTMENT OF COMMERCE

National Oceanic and Atmospheric Administration

50 CFR Part 660

[I.D. 101003B]

Pelagic Fisheries Managed Under the Fishery Management Plan, Pelagic Fisheries of the Western Pacific Region

AGENCY: National Marine Fisheries Service (NMFS), National Oceanic and Atmospheric Administration (NOAA), Commerce.

ACTION: Notice of Intent to prepare a Supplemental Environmental Impact Statement (SEIS); notice of scoping meetings; request for written comments.

SUMMARY: The NMFS and the Western Pacific Fishery Management Council, (Council), announce their intent to prepare an SEIS in accordance with the National Environmental Policy Act of 1969 (NEPA) on the Federal management of pelagic fishery resources in the waters of the United States exclusive economic zone, (EEZ), around the State of Hawaii, the territories of American Samoa and Guam, the Commonwealth of the Northern Mariana Islands (CNMI) and several western Pacific remote islands and atolls under direct Federal jurisdiction.

The NMFS will convene public scoping meetings to solicit comments on pelagic fishery issues and potential management options related to those issues. The scope of the EIS analysis will include, among other things, interactions of fisheries managed under the Fishery Management Plan for Pelagic Fisheries of the Western Pacific Region (Pelagics FMP).

The scoping meetings will provide for public input on the issues, range of alternatives, and impacts the SEIS should consider. Written comments will also be accepted concerning the various management options the SEIS should consider.

DATES: See SUPPLEMENTARY INFORMATION for specific dates, times, and locations of the meetings.

ADDRESSES: Written comments on the issues, priorities, range of alternatives, and impacts that should be discussed in the SEIS may be sent to Sam Pooley, Acting Regional Administrator, NMFS, Pacific Islands Regional Office, 1601 Kapiolani Blvd., Suite 1110, Honolulu, HI 96814. Comments may be sent via facsimile (fax) at 808-973-2941 and must be received by December 15, 2003.

FOR FURTHER INFORMATION CONTACT: Alvin Katekaru, NMFS, 808-973-2937.

SUPPLEMENTARY INFORMATION: Under the Magnuson-Stevens Fishery Conservation and Management Act (16 U.S.C. 1801 et seq.), the United States has exclusive management authority over all living marine resources found within the EEZ. The management of these marine resources with the exception of sea birds and some marine mammals, is vested in the Secretary of Commerce (Secretary). Eight Regional Fishery Management Councils prepare fishery management plans for approval and implementation by the Secretary. The Council has the responsibility to prepare fishery management plans for fishery resources in the EEZ of the Western Pacific Region. NEPA requires preparation of an EIS for major Federal actions significantly impacting the quality of the human environment.

The pelagics fishery resources that occur in the EEZ waters of the Western Pacific Region, have been managed under the Pelagics FMP and its amendments since 1986. Managed resources include both marketable, (primarily billfish and tunas), and non-marketable, (primarily sharks), species. Fisheries managed include pelagic longline, troll, handline, pole-and-line (bait boat), and charter boat fisheries. Management measures employed include gear restrictions, vessel size limitations, time and area closures, access limitations and other measures.

The largest fishery managed under this plan is the Hawaii-based, limited-access pelagic longline fishery. Emergency regulations imposed on this fishery in 2001, and subsequent final regulations promulgated in 2002 eliminated the “shallow set” component of this fishery that targeted swordfish. The remaining component of this fishery is a “deep set” tuna-targeting fishery. On August 31, 2003, a Memorandum Opinion issued in Hawaii Longline Assoc. v. NMFS, (D. D.C., Civ No. 01-765), invalidated the June 12, 2002 (67 FR 40232), final regulations as well as the November 15, 2002, Biological Opinion for Pelagic Fisheries of the Western Pacific and the associated incidental take statement. This had the immediate effect of leaving the Pelagics FMP in place without restrictions that NMFS had concluded in March 2001 were necessary to eliminate the likelihood that fishing pursuant to the Pelagics FMP would jeopardize the continued existence of species listed under the Endangered Species Act (ESA). To avoid this disruption, on October 6, 2003, the Court postponed the effectiveness of its action until April 1, 2004, to allow the agency to take appropriate action. Consequently, NMFS and the Council are considering fishery management measures to comply with ESA requirements for sea turtle protection. During the week of October 20, 2003, the Council is expected to consider longer-term proposals for the fishery.

The regulatory situation is thus subject to change. Additionally, recent research has identified practical measures (e.g., bait-setting chute; side-setting operations) that have significant potential for reducing interactions of the longline fleet with seabirds. As a consequence, it is now appropriate to re-examine in an SEIS the management measures imposed to minimize interactions between the Hawaii-based longline fishery and protected species. Also, since publication of the EIS for the Pelagics FMP, issues associated with marlins (billfish) and fish aggregating devices have surfaced, and a new industrial-scale squid fishery has emerged in Hawaii. The environmental impacts and need for management to address these matters are currently unknown. These issues will also be examined in the SEIS.

Comments and public input on any and all aspects of Pelagics FMP management are solicited and will be accepted during scoping. Input is especially sought on priorities to apply in addressing management issues and initiatives. The agency anticipates that certain measures will require expedited treatment. Others may be addressed on a longer timetable.

Public Involvement

Public scoping is an early and open process for determining the scope of issues to be addressed. A principle objective of the scoping and public involvement process is to identify a reasonable range of management alternatives that, with adequate analysis, will delineate critical issues and provide a clear basis for distinguishing between those alternatives and selecting a preferred alternative.

Alternatives

Scoping is being conducted to establish a reasonable range of alternatives, which may include modification of the current management regimes for the Hawaii-based longline fishery including, but not limited to, gear restrictions and requirements, time and area closures, limited access permits and reporting requirements, and catch limits; inclusion of certain squid species as Management Unit Species under the Pelagics FMP; and imposition on the squid fishery of management measures including, but not limited to, observer coverage and reporting requirements. In addition to developing possible alternatives, the scoping meetings will serve to identify and eliminate the issues which are not significant or which have been covered by prior environmental review.

Dates, Times, and Locations for Public Scoping Meetings

1. Tuesday, October 21, 2003, at 6 p.m. at Fisherman's Wharf Restaurant, 1009 Ala Moana Blvd. Honolulu, HI;

2. Monday, October 27, 2003, at 7 p.m. at the Chiefess Kamakahelei Middle School, 4431 Nuhou St., Lihue, Kauai, HI;

3. Tuesday, October 28, 2003, at 7 p.m. at the Maui Beach Hotel, 170 Kaahumanu Ave., Kahului, Maui, HI;

4. Thursday, October 30, 2003, at 7 p.m. at the King Kamehameha Hotel, 75-5660 Palani Rd., Kailua-Kona, HI;

5. Thursday, November 6, 2003, at 7 p.m. at the Department of Marine Resources and Wildlife Conference Room, Dockside, Pago Pago Harbor, American Samoa;

6. Wednesday, December 3, 2003, 7 p.m. at the Pedro P. Tenorio Multipurpose Bldg., Susupe, Saipan, CNMI;

7. December 4, 2003, 7 p.m. at the Guam Fisherman's Cooperative, Lot 12 section 4, Greg D. Perez Marina, Hagatna, Guam.

Special Accommodations

These meetings are physically accessible to people with disabilities. Requests for sign language interpretation or other auxiliary aids should be directed to Alvin Katekaru, 808-973-2937 (voice) or 808-973-2941(fax), at least five days prior to the meeting date.

Authority: 16 U.S.C. 1801 et seq.

Dated: October 10, 2003.
Bruce C. Morehead,
Acting Director, Office of Sustainable Fisheries, National Marine Fisheries Service.

[FR Doc. 03-26295 Filed 10-14-03; 2:35 pm]

BILLING CODE 3510-22-S